DEPARTMENT OF HOUSING AND URBAN DEVELOPMENT

[Docket No. FR-7011-N-51]

30-Day Notice of Proposed Information Collection: Office of Housing Counseling; OMB Control No.: 2502-0261

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 additional days of public comment.

DATES: Comments Due Date: January 2, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Terri Ames, Housing Program Specialist, Office of Policy and Grants Administration: Office of Housing Counseling, Department of Housing and Urban Development, 451 7th Street SW, Washington, DC 20410; email Terri.ames@hud.gov, 202-402-3025. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A. The Federal Register that solicited public comments on the information for a period of 60 days was published on July 16, 2019.

A. Overview of Information Collection

Title of Information Collection: Housing Counseling Program.

OMB Approval Number: 2502-0261.

Type of Request: Revision of a currently approved collection.

Form Number: HUD 9902, HUD 9906, SF-424, HUD-424CB, SF-425, SF-LLL, HUD 2880.

Description of the need for the information and proposed use: This information is collected in connection with HUD's Housing Counseling Program and will be used by HUD to determine that the Housing Counseling grant applicant meets the requirements of the Notice of Funding Availability (NOFA). Information collected is also used to assign points for awarding grant funds on a competitive and equitable basis. HUD's Office of Housing counseling will also use the information to provide housing counseling services through private or public organizations with special competence and knowledge in counseling low and moderate-income families. The information is collected from housing counseling agencies that participate in the HUD Housing Counseling Program. The information is collected via the HUD 9902 (grant activity report) and the form 9906 (grant application chart).

Respondents (i.e., affected public): Not-for-profit institutions.

Estimated Number of Respondents: 3,375.

Estimated Number of Responses: 9,900.

Frequency of Response: 2.93333.

Average Hours per Response: 2.0428787.

Total Estimated Burden hours: 20,224.49.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 12, 2019.
Colette Pollard,
Department Reports Management Officer, Office of the Chief Information Officer.

[FR Doc. 2019-26048 Filed 11-29-19; 8:45 am]

BILLING CODE 4210-67-P